NATIONAL ARCHIVES AND RECORDS ADMINISTRATION

36 CFR Part 1275

RIN 3095-AB07

Nixon Presidential Materials; Reproduction

AGENCY: National Archives and Records Administration (NARA).

ACTION: Proposed rule.

SUMMARY: NARA is proposing to modify the regulations for obtaining copies of the Nixon White House tape recordings which are in NARA custody. First, NARA is now allowing the public to obtain copies of all Nixon White House tape recordings after they are officially released to the public. Previously, NARA only permitted the public to obtain selected tape recordings. Second, the ban on self-service copying of these tapes is lifted. These changes reflect modifications in the 1996 Nixon Tapes Settlement Agreement that became effective April 1, 2001. These regulations apply to the public.

DATES: Comments are due by May 14, 2002.

ADDRESSES: Comments must be sent to Regulation Comments Desk (NPOL), Room 4100, Policy and Communications Staff, National Archives and Records Administration, 8601 Adelphi Road, College Park, MD 20740-6001. They may be faxed to 301-713-7270. You may also comment via email to comments@nara.gov. See the SUPPLEMENTARY INFORMATION for details.

FOR FURTHER INFORMATION CONTACT: Kim Richardson at telephone number 301-713-7360, ext. 240, or fax number 301-713-7270.

SUPPLEMENTARY INFORMATION: NARA is updating the regulations affecting research use of the Nixon Presidential Materials in NARA custody to reflect a change in the 1996 Nixon Tapes Settlement Agreement. NARA is amending § 1275.64, § 1275.66, and Appendix A of the regulations.

• The proposed § 1275.64 includes a provision allowing for the reproduction of tape recordings opened to the public. Effective April 20, 2001, the Nixon estate agreed to allow NARA to make available for sale and copying all tape recordings of conversations from the Nixon presidency that have been previously opened. Prior to April 20, 2001, NARA only permitted the public to obtain copies of selected tape recordings through a vendor. Self-service copying was not permitted. These changes to the negotiated Nixon Tapes Settlement Agreement are not applicable to tapes that have not yet been released.

• The proposed § 1275.66 is expanded to include tape recordings. This change allows the self-service copying of tape recordings.

• The proposed introductory paragraph to Appendix A—Settlement Agreement, waives paragraph 11 of the Agreement. The rule in paragraph 11 states that the public has to wait until January 1, 2003, to copy tapes not made publicly available before April 12, 1996. This rule is no longer applicable.

Please submit email comments within the body of your email message or attach comments as an ASCII file avoiding the use of special characters and any form of encryption. Please also include “Attn: 3095-AB07 and your name and return address in your Internet message. If you do not receive a confirmation that we have received your email message, contact the Regulation Comment Desk at 301-713-7360, ext. 226.

This proposed rule is a significant regulatory action for the purposes of Executive Order 12866 and has been reviewed by the Office of Management and Budget. As required by the Regulatory Flexibility Act, I certify that this rule will not have a significant impact on a substantial number of small entities. This regulation does not have any federalism implications.

List of Subjects in 36 CFR Part 1275

Archives and records.

For the reasons set forth in the preamble, NARA proposes to amend part 1275 of title 36, Code of Federal Regulations, as follows:

PART 1275—PRESERVATION AND PROTECTION OF AND ACCESS TO THE PRESIDENTIAL HISTORICAL MATERIALS OF THE NIXON ADMINISTRATION

1. The authority citation for part 1275 is revised to read as follows:

Authority: 44 U.S.C. 2104, 2111 note.

2. Amend § 1275.64 by revising paragraph (d) to read as follows:

§ 1275.64 Reproduction of tape recordings of Presidential conversations.

* * * * *

(d) The reproduction for members of the public of the reference copies of the available tape recordings described in paragraph (a) of this section will be permitted as follows: Copies of tape recordings will be made available following the public release of the tape segments contemplated in § 1275.42(a). Effective as of April 20, 2001, NARA will allow members of the public to obtain copies of all tapes that have been made available to the public by that date and that subsequently become available as they are released. Such copying will be controlled by NARA or its designated contractor. The fees for the reproduction of the tape recordings under this section shall be those prescribed in the schedule set forth in part 1258 of this chapter.

* * * * *

3. Amend § 1275.66 by revising paragraph (a) to read as follows:

§ 1275.66 Reproduction and authentication of other materials.

(a) Copying of materials, including tape recordings described in § 1275.64, may be done by NARA, by a contractor designated by NARA, or by researchers using self-service copiers or copying equipment.

* * * * *

4. Amend Appendix A to Part 1275—Settlement Agreement, by revising the introductory paragraph to read as follows:

Appendix A to Part 1275—Settlement Agreement

Settlement Agreement filed April 12, 1996, in Stanley I. Kutler and Public Citizen v. John W. Carlin, Archivist of the United States, and William E. Griffin and John H. Taylor, Co-executors of Richard M. Nixon's Estate, Civil Action No. 92-0662-NHJ (D.D.C.) (Johnson, J.). By letter dated April 17, 2001, NARA and the Nixon estate agreed to waive paragraph 11 of this Settlement Agreement, such that the delay on public copying until January 1, 2003, of tapes not made publicly available before April 12, 1996, shall no longer apply. This change is reflected in 36 CFR 1275.64.

* * * * *

Dated: February 8, 2002.
John W. Carlin,
Archivist of the United States.

[FR Doc. 02-6190 Filed 3-14-02; 8:45 am]

BILLING CODE 7515-01-U